DEPARTMENT OF THE TREASURY

Customs Service

Notice of Cancellation of Customs Broker Permit

AGENCY: Customs Service, Department of the Treasury.

ACTION: General notice.

SUMMARY: Pursuant to section 641 of the Tariff Act of 1930, as amended (19 U.S.C. 1641), and the Customs Regulations (19 CFR 111.51), the following Customs broker local permits are canceled without prejudice.

Name | Permit number | Issuing port
Yamato Customs Brokers USA, Inc. | 39-580 | Chicago
Yamato Customs Brokers USA, Inc. | 9198-P | San Francisco
Yamato Customs Brokers USA, Inc. | 888 | New York
Yamato Customs Brokers USA, Inc. | 94-17-045 | Savannah
Yamato Customs Brokers USA, Inc. | 1270 | Los Angeles
Yamato Customs Brokers USA, Inc. | 097 | Seattle
Yamato Customs Brokers USA, Inc. | (no number) | Detroit
All Nations Forwarding Import Co., Inc. | 6532 | Los Angeles
James W. Ghedi | 53-87002 | Houston

Dated: January 22, 2003.
Jayson P. Ahern,
Assistant Commissioner, Office of Field Operations.

[FR Doc. 03-2966 Filed 2-5-03; 8:45 am]

BILLING CODE 4820-02-M